DEPARTMENT OF AGRICULTURE

Natural Resources Conservation Service

Modification to Wetland Reserve Program Easements, Madison Parish, Louisiana

AGENCY: Natural Resources Conservation Service, DOA.

ACTION: Notice of Finding of No Significant Impact.

SUMMARY: Pursuant to Section 102 (2) (c) of the National Environmental Policy Act of 1969; the Council on Environmental Quality Regulations (40 CFR Part 1500); and the Natural Resources Conservation Service Regulation (7 CFR Part 650); the Natural Resources Conservation Service, U.S. Department of Agriculture, gives notice that an environmental impact statement is not being prepared for the Modification to Wetland Reserve Program Easements (WRP) Madison Parish, Louisiana.

FOR FURTHER INFORMATION CONTACT: Donald W. Gohmert, State Conservationist, Natural Resources Conservation Service, 3737 Government Street, Alexandria, Louisiana, 71302, telephone (318) 473-7751.

SUPPLEMENTARY INFORMATION: Environmental impacts associated with the modification of the WRP Easements are minimal. A total of 20.1 acres of forested wetlands impacted by the pipeline will be restored, 1.2 acres will be subordinated, and 11.2 additional wetland acres will be mitigated by incorporation into a future WRP easement. As a result of these findings, Donald W. Gohmert, State Conservationist has determined that the preparation and review of an environmental impact statement is not needed for this project. The Notice of a Finding of No Significant Impact (FONSI) has been forwarded to the Environmental Protection Agency. A limited number of copies of the FONSI are available to fill single copy requests at the above address. Basic data developed during the environmental assessment are on file and may be reviewed by contacting Billy Moore, Assistant State Conservationist, Natural Resources Conservation Service, 3737 Government Street, Alexandria, Louisiana 71302, telephone (318) 473-7756.

No administrative action on implementation of the proposal will be taken until 30 days after the date of this publication in the Federal Register.

Dated: March 20, 2001.
Donald W. Gohmert,
State Conservationist.

[FR Doc. 01-11468 Filed 5-7-01; 8:45 am]

BILLING CODE 3410-16-P